INTERNATIONAL TRADE COMMISSION

[Investigation No. 337-TA-1381]

Certain Disposable Vaporizer Devices and Components and Packaging Thereof; Notice of a Commission Determination Not To Review Initial Determination Amending the Complaint and Notice of Investigation To Correct Respondent Name

AGENCY: U.S. International Trade Commission.

ACTION: Notice.

SUMMARY: Notice is hereby given that the U.S. International Trade Commission has determined not to review an initial determination (Order No. 10) issued by the chief administrative law judge (“CALJ”) granting a motion to amend the complaint and notice of investigation (“NOI”) to change the name of a respondent.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On December 15, 2023, the Commission instituted this investigation based on a complaint filed by of complainants R.J. Reynolds Tobacco Company and R.J. Reynolds Vapor Company (collectively “R.J. Reynolds”). 88 FR 88111-12 (Dec. 15, 2023). The complaint alleges violations of section 337 of the Tariff Act of 1930, as amended, 19 U.S.C. 1337, based upon the importation into the United States, the sale for importation, or sale within the United States after importation of certain disposable vaporizer devices and components and packaging thereof by reason false advertising, false designation of origin, and unfair competition, the threat or effect of which is to destroy or substantially injure an industry in the United States. The Commission's NOI named the following twenty-five (25) respondents: Affiliated Imports, LLC, of Pflugerville, TX; American Vape Company, LLC a/k/a American Vapor Company, LLC, of Pflugerville, TX; Breeze Smoke, LLC, of West Bloomfield, MI; Dongguan (Shenzhen) Shikai Technology Co., Ltd., of Guangdong, China; EVO Brands, LLC, of Wilmington, DE; Flawless Vape Shop Inc. of Anaheim, CA; Flawless Vape Wholesale & Distribution Inc of Anaheim, CA; Guangdong Qisitech Co., Ltd., of Guangdong Province, China; iMiracle (Shenzhen) Technology Co. Ltd. of Shenzhen, China; Magellan Technology Inc. of Buffalo, NY; Pastel Cartel, LLC, of Pflugerville, TX; Price Point Distributors Inc. d/b/a Prince Point NY of Farmingdale, NY; PVG2, LLC, of Wilmington, DE; Shenzhen Daosen Vaping Technology Co., Ltd., of Shenzhen, China; Shenzhen Fumot Technology Co., Ltd., of Shenzhen, China; Shenzhen Funyin Electronic Co., Ltd., of Guangdong, China; Shenzhen Han Technology Co., Ltd., of Shenzhen, Guangdong, China; Shenzhen Innokin Technology Co., Ltd., of Shenzhen, China; Shenzhen IVPS Technology Co., Ltd., of Shenzhen, Guangdong, China; Shenzhen Noriyang Technology Co., Ltd., of Shenzhen, Guangdong Province, China; Shenzhen Weiboli Technology Co. Ltd. of Shenzhen, China; SV3 LLC d/b/a Mi-One Brands of Phoenix, AZ; Thesy, LLC d/b/a Element Vape of El Monte, CA; Vapeonly Technology Co. Ltd. of Shenzhen, China; and VICA Trading Inc. d/b/a Vapesourcing of Tustin, CA. Id. The Office of Unfair Import Investigations was also named as a party in this investigation. Id.

On February 2, 2024, R.J. Reynolds filed an unopposed motion for leave to amend the complaint and NOI to change the name of respondent “Shenzhen Funyin Electronic Co., Ltd.” to “Shenzhen Funyin Electronic Technology Co., Ltd.” (“Funyin”) because the word “Technology” was inadvertently omitted from the originally filed complaint. See Order No. 10 at 1. R.J. Reynolds noted that the “proposed amendment does not add or otherwise modify any allegations against any Respondent” and that Funyin does not oppose the motion. Id. at 2. No party opposed the motion. Id.

On February 5, 2024, the CALJ issued the subject ID (Order No. 10) pursuant to Commission Rule 210.14(b) (19 CFR 210.14(b)), granting R.J. Reynolds' motion to amend the complaint and NOI as requested. The ID finds that R.J. Reynolds has established good cause for the proposed amendment, and that the amendment “will not prejudice the rights of any parties to the investigation and reflects the true identity of the respondent at issue.” ID at 1.

No party filed a petition for review of the subject ID.

The Commission has determined not to review the subject ID (Order No. 10). Pursuant to Commission Rule 210.14, the Notice of Investigation is amended to change the name of respondent “Shenzhen Funyin Electronic Co., Ltd.” to “Shenzhen Funyin Electronic Technology Co., Ltd.”

The Commission vote for this determination took place on March 4, 2024.

The authority for the Commission's determination is contained in section 337 of the Tariff Act of 1930, as amended (19 U.S.C. 1337), and in Part 210 of the Commission's Rules of Practice and Procedure (19 CFR part 210).

By order of the Commission.
Issued: March 4, 2024.
Lisa Barton,
Secretary to the Commission.

[FR Doc. 2024-04879 Filed 3-6-24; 8:45 am]

BILLING CODE 7020-02-P